DEPARTMENT OF THE INTERIOR

Bureau of Land Management

[WY-030-2000-1310-DB]

Notice of Intent To Prepare an Environmental Impact Statement; Desolation Flats Natural Gas Development Project, Carbon and Sweetwater Counties, Wyoming, To Conduct a Planning Review of the Proposed Project Area, and if Necessary, Amend Either or Both the Great Divide and Green River Resource Management Plans

AGENCY: Bureau of Land Management, Interior.

ACTION: Notice of Intent (NOI) to prepare an Environmental Impact Statement (EIS) and to conduct scoping for the Desolation Flats Natural Gas Development Project, Carbon and Sweetwater Counties, Wyoming.

SUMMARY: Under section 102(2)(C) of the National Environmental Policy Act (NEPA) of 1969, as amended, the Bureau of Land Management (BLM), Rawlins Field Office, will direct the preparation of an EIS on the potential impacts of a proposed natural gas field development project. Approximately 385 gas wells and associated facilities could be constructed on approximately 229,781 acres of primarily Federal land (some private and State included), over a 20-year development period. The project area is located in southwestern Carbon County and southeastern Sweetwater County, Wyoming. The proposed action may be modified, as a result of comments received during scoping or anytime during the preparation of the draft EIS, to include actions that may, upon review, require a plan amendment to the Green River and Great Divide Resource Management Plans. A planning review of existing land-use decisions would be conducted. Additionally an evaluation of potential relevant and important resource values in the Desolation Flats project area portion of the Monument Valley Management Area of the Rock Springs Field Office would be done. Any needed changes in existing management or any new management actions to be prescribed for the area will be identified and, if necessary, the Green River RMP amended. In accordance with 43 CFR 3420.1-2, this notice also serves as a call for coal and other resource information to solicit indications of interest and information on coal resource development potential in the proposed project area and on other resources which may be affected by the proposed project. Affected Federal lands are administered by the BLM Rawlins and Rock Springs Field Offices. The EIS will be prepared by a third-party contractor.

DATES: Comments on the project proposal will be accepted through June 23, 2000. Public scoping meetings will be held at 7 p.m. on the following dates, at the following locations:

—June 7, 2000, in Rock Springs, Wyoming, Bureau of Land Management, Rock Springs Field Office, 280 Highway 191 North.

—June 8, 2000, in Rawlins, Wyoming, Bureau of Land Management, Rawlins Field Office, 1300 North Third Street.

ADDRESSES: Comments should be sent to Bureau of Land Management, Rawlins Field Office, John Spehar, Team Leader, 1300 North Third Street, P.O. Box 2407, Rawlins, Wyoming 82301, phone (307) 328-4200, or e-mailed to rawlins_wymail@blm.gov. Additionally, the Scoping Notice will be posted on the Wyoming BLM homepage at www.wy.blm.gov. Your response is important and will be considered in the environmental analysis process. If you do respond, we shall keep you informed of decisions resulting from the analysis. Please note that public comments submitted for this scoping review, including names, e-mail addresses, and street addresses of the respondents will be available for public review and disclosure at the above address during regular business hours (7:45 a.m. to 4:30 p.m.) Monday through Friday, except holidays. Individual respondents may request confidentially. If you wish to withhold your name, e-mail address, or street address from public review or from disclosure under the Freedom of Information Act, you must state this plainly at the beginning of your written comment. Such requests will be honored to the extent allowed by law. All submissions from organizations or businesses, and from individuals identifying themselves as representatives or officials of organizations or businesses, will be made available for public inspection in their entirety.

FOR FURTHER INFORMATION CONTACT: Bureau of Land Management, John Spehar, Project Manager, 1300 North Third Street, P.O. Box 2407, Rawlins, Wyoming 82301, phone 307-328-4264, e-mail: John_Spehar@blm.gov.

SUPPLEMENTARY INFORMATION: Marathon Oil Company (Marathon) has notified the Bureau of Land Management that Marathon and other operators propose a 20-year field development project. The proposed project area, referred to as the Desolation Flats area, is generally located in Townships 13-16 North, Ranges 94-96 West, Sixth Principal meridian, Carbon and Sweetwater Counties, Wyoming.

The project area is located approximately 14 miles west and north of Baggs, Wyoming. The project area is approximately 229,781 acres in size. The vast majority of land and mineral ownership is Federal. The Federal land surface and Federally owned minerals are managed by the Rawlins and Rock Springs BLM Field Offices.

Marathon and other operators propose to drill 385 wells on 361 locations and construct associated facilities, including roads, well pads, pipelines, and compressor stations. Drilling of exploratory or confirmation/delineation wells on existing Federal leases will be permitted on a case-by-case basis during the preparation of the EIS. A site-specific environmental assessment (EA) will be prepared for each individual drilling proposal.

The Desolation Flats project area contains lands covered by two existing natural gas development project EISs. The Mulligan Draw Unit EIS and the Dripping Rock/Cedar Breaks Area EA were approved for spacing of one well per section and for drilling in the Almond Formation. The intent of including the Mulligan Draw EIS area and the Dripping Rock/Cedar Breaks EA area within the Desolation Flats project area, as described by the operators, is to determine the feasibility and environmental impacts of a well-spacing density greater than the authorized one-well per 640-acre spacing.

This EIS will address cumulative impacts and will include consideration of affects of other oil and gas projects addressed in recently completed EISs for the Mulligan Draw Gas Field Project, the Creston/Blue Gap Natural Gas Project, the soon to be completed Continental Divide/Wamsutter II Natural Gas Project, and the recently proposed Atlantic Rim Coalbed Methane Project EA. Potential issues to be addressed in the EIS include, but are not limited to: impacts to wildlife populations and their habitats, access road development and transportation management, surface and ground water resources, impacts from additional drilling and production activities, reclamation, noxious weed control, conflicts with livestock grazing operations, protection of cultural and paleontological resources, threatened and endangered species, and cumulative impacts.

Dated: May 12, 2000.
Alan R. Pierson,
State Director.

[FR Doc. 00-12496 Filed 5-17-00; 8:45 am]

BILLING CODE 4310-22-P